DEPARTMENT OF COMMERCE

Foreign-Trade Zones Board

[Order No. 2078]

Expansion of Foreign-Trade Zone 163; Ponce, Puerto Rico

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the CODEZOL, C.D., grantee of Foreign-Trade Zone 163, submitted an application to the Board for authority to expand FTZ 163 to include a site at the Ponce Regional Distribution Center (Site 17) in Ponce, Puerto Rico, adjacent to the San Juan Customs and Border Protection port of entry (B-38-2018, docketed June 13, 2018);

Whereas, notice inviting public comment has been given in the Federal Register (83 FR 28411-28412, June 19, 2018) and the application has been processed pursuant to the FTZ Act and the Board's regulations; and,

Whereas, the Board adopts the findings and recommendations of the examiner's report, and finds that the requirements of the FTZ Act and the Board's regulations are satisfied;

Now, therefore, the Board hereby orders:

The application to expand FTZ 163 is approved, subject to the FTZ Act and the Board's regulations, including Section 400.13.

Dated: December 13, 2018.
Christian B. Marsh,
Acting Assistant Secretary for Enforcement and Compliance, Alternate Chairman, Foreign-Trade Zones Board.

[FR Doc. 2018-27425 Filed 12-18-18; 8:45 am]

BILLING CODE 3510-DS-P